DEPARTMENT OF STATE

[Public Notice 7998]

Certification Related to Colombian Armed Forces Under the Department of State, Foreign Operations, and Related Programs Appropriations Act, 2012

Pursuant to the section 7045(a) of the Department of State, Foreign Operations, and Related Programs Appropriations Act, 2012 (Div. I, Pub. L. 112-74) (“FY 2012 SFOAA”) and Delegation of Authority 245-1, I hereby certify and report that the Colombian Armed Forces and the Government of Colombia are meeting the conditions contained in section 7045 of the Joint Explanatory Statement that accompanies the FY 2012 SFOAA.

This Certification shall be published in the Federal Register, and copies shall be transmitted to the appropriate committees of Congress.

Dated: August 20, 2012.
Wendy R. Sherman,
Under Secretary of State.

[FR Doc. 2012-21421 Filed 8-29-12; 8:45 am]

BILLING CODE 4710-29-P